ENVIRONMENTAL PROTECTION AGENCY

[EPA-HQ-ORD-2016-0196; FRL-9947-79-ORD]

Updates to the Demographic and Spatial Allocation Models To Produce Integrated Climate and Land Use Scenarios (ICLUS) Version 2; Correction

AGENCY: Environmental Protection Agency (EPA).

ACTION: Notice of public comment period; correction.

SUMMARY: EPA is announcing a 30-day public comment period for the draft document titled, “Updates to the Demographic and Spatial Allocation Models to Produce Integrated Climate and Land Use Scenarios (ICLUS) Version 2” (EPA/600/R-14/324). EPA is also announcing that Versar, Inc., an EPA contractor for external scientific peer review, will select four independent experts from a pool of eight to conduct a letter peer review of the same draft document. The document was prepared by the National Center for Environmental Assessment within EPA's Office of Research and Development. This document describes the development of version 2 of Integrated Climate and Land Use Scenarios (ICLUS), including updates to data sets and the demographic and spatial allocation models.

EPA intends to forward the public comments that are submitted in accordance with this document to the external peer reviewers for their consideration during the letter peer review. When finalizing the draft documents, EPA intends to consider any public comments received in response to this document. EPA is releasing this draft document for the purposes of public comment and peer review. This draft document is not final as described in EPA's information quality guidelines and does not represent and should not be construed to represent Agency policy or views.

The draft document is available via the Internet on EPA's Risk Web page under the Recent Additions at http://www.epa.gov/risk.

Correction

In the Federal Register of April 29, 2016, in FR Doc. 2016-09860, on page 25666, in the second column correct the DATES section to read:

DATES: The 7-day public comment period begins June 17, 2016, and ends June 24, 2016. Comments must be received on or before June 24, 2016.

Dated: June 8, 2016.
Mary A. Ross,
Deputy Director, National Center for Environmental Assessment.

[FR Doc. 2016-14287 Filed 6-16-16; 8:45 am]

BILLING CODE 6560-50-P